DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under title II, chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than August 27, 2001.

Interested persons are invited to submit written comments regarding the subject matter of the investigations to the Director, Division of Trade Adjustment Assistance, at the address shown below, not later than August 27, 2001.

The petitions filed in this case are available for inspection at the Office of the Director, Division of Trade Adjustment Assistance, Employment and Training Administration, U.S. Department of Labor, Room C-5311, 200 Constitution Avenue, NW., Washington, DC 20210.

Signed at Washington, DC this 16th day of July, 2001.
Edward A. Tomchick,
Director, Division of Trade Adjustment Assistance.

Appendix
[Petitions Instituted on 07/16/2001]
TA-W | Subject firm (petitioners) | Location | Date of petition | Product(s)
39,615 | Allegheny Ludlum Steel (USWA) | Brackenridge, PA | 07/16/2001 | Cold Rolled Oriented Steel.
39,616 | United States Ceramic (USWA) | East Sparta, OH | 07/02/2001 | White Body Ceramic Tile.
39,617 | Silgan Plastics (Wkrs) | Fairfield, OH | 07/02/2001 | Plastic Bottles.
39,618 | Winer Industries (Wkrs) | Dallas, TX | 06/27/2001 | Women's Jeans.
39,619 | Converse, Inc. (Wkrs) | Charlotte, NC | 06/25/2001 | Footwear.
39,620 | Perry Manufacturing (Wkrs) | Mt. Airy, NC | 07/02/2001 | Ladies Sports Apparel.
39,621 | Franklin Industries (Wkrs) | Lavenia, GA | 06/28/2001 | Sewing Machine Parts.
39,622 | UCAR Carbon (Co.) | Clarksville, TN | 07/02/2001 | Graphite Electrodes.
39,623 | E.J. Victor (Co.) | Morganton, NC | 07/02/2001 | House Hold Furniture.
39,624 | Nidec America Corp. (Wkrs) | Canton, MA | 07/02/2001 | Fans for Computers.
39,625 | Kimlor Mills (Wkrs) | Orangeburg, SC | 06/30/2001 | Sheet Sets.
39,626 | Great Western In't (Wkrs) | Portland, OR | 06/27/2001 | Industrial Chemicals.
39,627 | Timken Railroad Bearing (Wkrs) | Columbus, OH | 06/19/2001 | Bearings.
39,628 | Henderson Sewing Machine (Co.) | Andalusia, AL | 06/29/2001 | Sewing Machine Parts.
39,629 | MasterTrans Transportation (Wkrs) | Stungis, MS | 06/28/2001 | Trucking.
39,630 | John Crane (Wkrs) | Crystal Lake, IL | 06/14/2001 | Industrial Seals.
39,631 | Merix Corporation (Wkrs) | Forest Grove, OR | 07/02/2001 | Circuit Boards.
39,632 | JPS Apparel Fabric (Co.) | South Boston, VA | 06/27/2001 | Woven Fabrics.
39,633 | GAMCO Manufacturing (Co.) | Jamestown, TN | 06/29/2001 | Ladies Sportswear and Uniforms.
39,634 | Lea Industries (Co.) | Marion, VA | 06/29/2001 | Casegoods Furniture.
39,635 | Alpha Industries (Wkrs) | Knoxville, TN | 06/27/2001 | Civilian and Military Jackets.
39,636 | Angelica Image Apparel (Wkrs) | Mountain View, MO | 06/28/2001 | Hospital Apparel.
39,637 | International Garment (Wkrs) | El Paso, TX | 06/27/2001 | Jeans.
39,638 | Webster Corporation (PACE) | West Bend, WI | 06/26/2001 | Wiring Harnesses.
39,639 | American Steel (Wkrs) | Cuyahoga Hts, OH | 06/27/2001 | Steel Bar Rod.
39,640 | ARC-NACO (Wkrs) | Superior, WI | 06/28/2001 | Trackwork Products.
39,641 | Agilent Technologies (Wkrs) | Westford, MA | 06/28/2001 | Hand Held Communications Test Equipment.
39,642 | Cares Candles and Gifts (Wkrs) | Hayward, CA | 06/27/2001 | Botanical Candles.
39,643 | Precision Mold (Co.) | Kent, WA | 06/26/2001 | Precision Mold.
39,644 | A-1 Manufacturing (Co.) | Brilliant, AL | 06/28/2001 | Uniforms.
39,645 | S.D. Warren Alabama (Wkrs) | Mobile, AL | 06/26/2001 | Uncoated Paper Products.
39,646 | L.B. Foster (USWA) | Pomeroy, OH | 06/28/2001 | Steel.
39,647 | H. Oritsky (UNITE) | Reading, PA | 07/02/2001 | Men's Suits and Slacks.
39,648 | Greg Stout Logging (Co.) | Gold Hill, OR | 06/29/2001 | Logs.
39,649 | Nazareth Century Mills (Co.) | Ouitman, MS | 07/02/2001 | Knit Apparel.
39,650 | Micron Electronics (Wkrs) | Nampa, ID | 05/22/2001 | Computer Products.
39,651 | Ditto Apparel of Calif. (Wkrs) | Bastrop, LA | 07/06/2001 | Denim Jeans.
39,652 | Cranston Print Works (UNITE) | Webster, MA | 07/03/2001 | Textiles.
39,653 | Covington Industries (Wkrs) | New York, NY | 07/03/2001 | Fabric.
39,654 | Wilcox Forging (Co.) | Mechanicsburg, PA | 07/03/2001 | Drop Forging.
39,655 | International Components (Co.) | San Jose, CA | 06/29/2001 | Wire Harness Assembly.
39,656 | Boston Scientific (Co.) | Redmond, WA | 07/05/2001 | Medical Devices (Cardiology).
39,657 | Weirton Steel Corp. (Co.) | Weirton, WV | 07/03/2001 | Flat Rolled Steel.
39,658 | HARSCO Corporation (USWA) | Harrisburg, PA | 07/03/2001 | Gas Cylinders.
39,659 | Tower Automotive (PACE) | Sebewaing, MI | 06/29/2001 | Metal Stampings.
39,660 | Rosti, Inc. (Co.) | Coushatta, LA | 06/27/2001 | Phone Knit.
39,661 | R and B Machine Tool (Co.) | Saline, MI | 06/29/2001 | Automated Metal Removal Equipment.
39,662 | MM and E Machine (Co.) | Penton, MI | 06/29/2001 | Automated Metal Removal Equipment.
39,663 | Oxford Shirt Group (7/3/20) | Vidalia, GA | 07/03/2001 | Men's Shirts.

[FR Doc. 01-20538 Filed 8-14-01; 8:45 am]

BILLING CODE 4510-30-M